INTERNATIONAL TRADE COMMISSION

[Investigation Nos. 731-TA-711 and 713-716 (Second Review)]

Oil Country Tubular Goods From Argentina, Italy, Japan, Korea, and Mexico

Determinations

On the basis of the record ¹ developed in the subject five-year reviews, the United States International Trade Commission (Commission) determines, pursuant to section 751(c) of the Tariff Act of 1930 (19 U.S.C. 1675(c)) (the Act), that revocation of the antidumping duty orders on oil country tubular goods from Argentina, Italy, Japan, Korea, and Mexico would not be likely to lead to continuation or recurrence of material injury to the industries in the United States producing oil country tubular goods other than drill pipe (“casing and tubing”) and, with respect to Japan, drill pipe, within a reasonably foreseeable time.²

¹ The record is defined in § 207.2(f) of the Commission's Rules of Practice and Procedure (19 CFR 207.2(f)).

² Commissioners Charlotte R. Lane dissenting with respect to casing and tubing from all countries and Commissioner Dean A. Pinkert dissenting with respect to casing and tubing from Japan and Korea.

Background

The Commission instituted these reviews on June 1, 2006 (71 F.R. 31207) and determined on September 5, 2006 that it would conduct full reviews (71 FR 54520, September 15, 2006). Notice of the scheduling of the Commission's reviews and of a public hearing to be held in connection therewith was given by posting copies of the notice in the Office of the Secretary, U.S. International Trade Commission, Washington, DC, and by publishing the notice in the Federal Register on September 29, 2006 (71 FR 57566). The hearing was held in Washington, DC, on April 12, 2007, and all persons who requested the opportunity were permitted to appear in person or by counsel.

The Commission transmitted its determinations in these reviews to the Secretary of Commerce on June 18, 2007. The views of the Commission are contained in USITC Publication 3923 (June 2007), entitled Oil Country Tubular Goods From Argentina, Italy, Japan, Korea, and Mexico: Investigation Nos. 731-TA-711 and 713-716 (Second Review).

By order of the Commission.
Issued: June 18, 2007.
Marilyn R. Abbott,
Secretary to the Commission.

[FR Doc. E7-12091 Filed 6-21-07; 8:45 am]

BILLING CODE 7020-02-P